DEPARTMENT OF AGRICULTURE

Agricultural Marketing Service

[FV-01-329]

United States Standards for Grades of Frozen Onions

AGENCY: Agricultural Marketing Service, USDA.

ACTION: Notice.

SUMMARY: The Agricultural Marketing Service (AMS) of the Department of Agriculture (USDA) is soliciting comments on its proposal to create new United States Standards for Grades of Frozen Onions. USDA has received a petition from a trade association to create grade standards for frozen onions that will include a description of the product, style, sample unit size, grades, ascertaining the grade by sample, and ascertaining the grade by lot. This proposal will provide a common language for trade, a means of measuring value in the marketing of frozen onions, and provide guidance in the effective utilization of frozen onions.

DATES: Comments must be submitted on or before June 26, 2001.

ADDRESSES: Written comments may be submitted to: Chere L. Shorter, Processed Products Branch, Fruit and Vegetable Programs, Agricultural Marketing Service, U.S. Department of Agriculture, STOP 0247,1400 Independence Avenue SW, Washington, D.C. 20250-0247; fax (202) 690-1087; or e-mail chere.shorter@usda.gov.

Comments should reference the date and page of this issue of the Federal Register. All comments received will be made available for public inspection at the address listed above during regular business hours and on the Internet.

The draft of the United States Standards for Grades of Frozen Onions available either through the address cited above or by accessing AMS's Home Page on the Internet at: www.ams.usda.gov/standards/frozveg.htm. Any comments received, regarding this proposed standard will also be posted on that site.

FOR FURTHER INFORMATION CONTACT: Chere L. Shorter at (202) 720-5021 or e-mail at chere.shorter@usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices * * *”. AMS is committed to carrying out this authority in a manner that facilitates the marketing of agricultural commodities and makes copies of official standards available upon request. The United States Standards for Grades of Fruits and Vegetables no longer appear in the Code of Federal Regulations but are maintained by USDA/AMS/Fruit and Vegetable Programs.

AMS is proposing to establish the U.S. Standards for Grades of Frozen Onions using the procedures that appear in Part 36 Title 7 of the Code of Federal Regulations (7 CFR Part 36).

The American Frozen Food Institute (AFFI), a trade association for frozen fruits and vegetables, requested that USDA develop a standard for frozen onions to be used by the industry. The petition provided information on style, sample size and description to AMS to develop the standard. AMS received samples of various styles to collect information on grades of frozen onions and how to ascertain the grade of a sample and of a lot.

AMS prepared a discussion draft of the frozen onions standard, and distributed copies for input to AFFI. Input from the trade association's members was used to develop the proposed standard.

Based on the results of the information gathered, AMS is proposing to establish a standard for frozen onions following the standard format for U.S. Grade Standards using “individual attributes.” Specifically, USDA is proposing to provide for the “individual attributes” procedure for product grading with sample sizes, acceptable quality levels (AQL's), tolerances and acceptance numbers (number of allowable defects); with single letter grade designations. AMS is proposing to define “frozen onions” and establish “strips”, “diced”, whole” and “minced” as the style designations. The proposal also defines the quality factors, acceptable quality levels (AQL), and tolerances (TOL) for defects that affect frozen onions and determine sample unit sizes for this commodity.

This proposal would establish the grade levels “A”, “B” and “Substandard”. The proposed AQLs, tolerances, and acceptance numbers for each quality factor as defined for each grade level would also be established.

The grade of a sample unit of frozen onions will be ascertained by considering the factors of varietal characteristics, flavor, odor, color, defects, and character. This proposal will provide a common language for trade, a means of measuring value in the marketing of frozen onions, and provide guidance in the effective utilization of frozen onions. The official grade of a lot of frozen onions covered by these standards will be determined by the procedures set forth in the Regulations Governing Inspection and Certification of Processed Products Thereof, and Certain Other Processed Foods Products (§ 52.1 to 52.83).

This notice provides for a 60 day comment period for interested parties to comment on changes to the standards.

Authority: 7 U.S.C. 1621-1627

Dated: April 20, 2001.
Robert C. Keeney,
Acting Administrator, Agricultural Marketing Service.

[FR Doc. 01-10525 Filed 4-26-01; 8:45 am]

BILLING CODE 3410-02-P